DEPARTMENT OF THE INTERIOR

Bureau of Land Management

[LLUT91000-L10400000-PH0000-24-1A]

Notice of Utah's Resource Advisory Council (RAC) Meeting

AGENCY: Bureau of Land Management, Department of the Interior.

ACTION: Notice of Utah's Resource Advisory Council Meeting.

SUMMARY: In accordance with the Federal Land Policy and Management Act (FLPMA) and The Federal Advisory Committee Act of 1972 (FACA), the U.S. Department of the Interior, Bureau of Land Management's (BLM) Utah Resource Advisory Council (RAC) will meet as indicated below.

DATES: The Utah Resource Advisory Council (RAC) will meet September 15 (1 p.m.-6 p.m.) and September 16 (8 a.m.-3 p.m.), 2009, in Cedar City, Utah.

ADDRESSES: The RAC will meet at the Southern Utah University's Hunter Conference Center (Shooting Star meeting room), 351 West University Blvd., Cedar City, Utah.

FOR FURTHER INFORMATION CONTACT: Contact Sherry Foot, Special Programs Coordinator, Utah State Office, Bureau of Land Management, P.O. Box 45155, Salt Lake City, Utah 84145-0155; phone (801) 539-4195.

SUPPLEMENTARY INFORMATION: The 15-member Council advises the Secretary of the Interior, through the Bureau of Land Management, on a variety of planning and management issues associated with public land management in Utah. On September 15, planned agenda topics include presentations on renewable energy resources, including geothermal, wind energy, solar study units; effects on wildlife from renewable energy development; the treatment of renewable resources in Resource Management Plans; and, comments by local and state officials. Updates on the Milford Flat fire rehab project also will be presented. A half-hour public comment period, where the public may address the Council, is scheduled from 5 p.m.-5:30 p.m. Written comments may be sent to the Bureau of Land Management's address listed above.

On September 16, the RAC will tour the RASER facilities (geothermal-modular units), First Wind—Milford Flat Wind Farm (Clipper and GE turbines, substation, operation and maintenance facility, lay-down yards), and the Blundell Powerplant (geothermal, production plant-turbine, heat exchangers). All meetings are open to the public; however, transportation, lodging, and meals are the responsibility of the participating public. For purposes of field tour coordination, members of the public wishing to attend are to contact Sherry Foot at (801) 539-4195.

Dated: July 30, 2009.
Selma Sierra,
State Director.

[FR Doc. E9-18681 Filed 8-4-09; 8:45 am]

BILLING CODE 4310-DQ-P